DEPARTMENT OF DEFENSE

Office of the Secretary

[Docket ID: DOD-2008-OS-0086]

Privacy Act of 1974; System of Records

AGENCY: Office of the Inspector General, DoD.

ACTION: Notice to amend three systems of records.

SUMMARY: The Office of the Inspector General (OIG) is amending three systems of records notices in its existing inventory of record systems subject to the Privacy Act of 1974, (5 U.S.C. 552a), as amended.

DATES: This proposed action will be effective without further notice on September 22, 2008 unless comments are received which result in a contrary determination.

ADDRESSES: Send comments to Chief, FOIA/PA Office, Inspector General, Department of Defense, 400 Army Navy Drive, Room 201, Arlington, VA 22202-4704.

FOR FURTHER INFORMATION CONTACT: Mr. Keith Mastromichalis at (703) 604-8723.

SUPPLEMENTARY INFORMATION: The Office of the Inspector General (OIG) systems of records notices subject to the Privacy Act of 1974, (5 U.S.C. 552a), as amended, have been published in the Federal Register and are available from the address above.

The specific changes to the records systems being amended are set forth below followed by the notice, as amended, published in its entirety. The proposed amendments are not within the purview of subsection (r) of the Privacy Act of 1974, (5 U.S.C. 552a), as amended, which requires the submission of a new or altered system report.

Dated: August 15, 2008.
Patricia Toppings,
Federal Register Liaison Officer, Department of Defense.

CIG-17

System Name:

Voluntary Leave Transfer Program Records (June 5, 2006, 71 FR 32309).

Changes:

* * * * *

Systems location:

Delete entry and replace with “Human Capital Advisory Services, Department of Defense Office of the Inspector General, 400 Army Navy Drive, Arlington, VA 22202-4704.”

* * * * *

Purpose(s):

Delete entry and replace with “The file is used to managing the Department of Defense Office of the Inspector General, Voluntary Leave Transfer Program. The recipient's name, position data and organization are published internally for passive solicitation purposes. The Social Security Number is sought to effectuate the transfer of leave from the donor's account to the recipient's account.”

* * * * *

System manager(s) and address:

Delete entry and replace “Human Capital Advisory Services, Department of Defense Office of the Inspector General, 400 Army Navy Drive, Arlington, VA 22202-4704.”

* * * * *

CIG-17

System name:

Voluntary Leave Transfer Program Records.

System location:

Human Capital Advisory Services, Department of Defense Office of the Inspector General, 400 Army Navy Drive, Arlington, VA 22202-4704.

Categories of individuals covered by the system:

Individuals who have volunteered to participate in the leave transfer program as either a donor or a recipient.

Categories of records in the system:

Leave recipient records contain the individual's name, organization, office telephone number, Social Security Number (SSN), position title, grade, pay level, leave balances, number of hours requested, brief description of the medical or personal hardship which qualifies the individual for inclusion in the program, and the status of that hardship.

The file may also contain medical or physician certifications and agency approvals or denials.

Donor records include the individual's name, organization, office telephone number, Social Security Number (SSN), position title, grade, and pay level, leave balances, number of hours donated and the name of the designated recipient.

Authority for maintenance of the system:

5 U.S.C. 6331 et seq., Leave; 5 CFR part 630, Absence and Leave; IG Instruction 1424.630, Leave Administration Policy and Procedures; and E.O. 9397 (SSN).

Purpose(s):

The file is used to managing the Department of Defense Office of the Inspector General, Voluntary Leave Transfer Program. The recipient's name, position data and organization are published internally for passive solicitation purposes. The Social Security Number is sought to effectuate the transfer of leave from the donor's account to the recipient's account.

Routine uses of records maintained in the system, including categories of users and the purposes of such uses:

In addition to those disclosures generally permitted under 5 U.S.C. 552a(b) of the Privacy Act, these records or information contained therein may specifically be disclosed outside the DoD as a routine use pursuant to 5 U.S.C. 552(a)(b)(3) as follows:

To the Department of Labor in connection with a claim filed by an employee for compensation due to a job-connected injury or illness; where leave donor and leave recipient are employed by different Federal agencies, to the personnel and pay offices of the Federal agency involved to effectuate the leave transfer.

The DoD “Blanket Routine Uses” set forth at the beginning of the OIG's compilation of systems of records notices also apply to this system.

Policies and practices for storing, retrieving, accessing, retaining, and disposing of records in the system:

Storage:

Paper records in file folders and electronic storage media.

Retrievability:

Records are retrieved by name or Social Security Number (SSN).

Safeguards:

Records are accessed by custodian of the records or by persons responsible for servicing the record system in performance of their official duties. Records are stored in locked cabinets or rooms and are controlled by personnel screening and computer software.

Retention and disposal:

Records are destroyed one year after the end of the year in which the file is closed.

System manager(s) and address:

Human Capital Advisory Services, Department of Defense Office of the Inspector General, 400 Army Navy Drive, Arlington, VA 22202-4704.

Notification procedure:

Individuals seeking to determine whether this system of records contains information about themselves should address written inquiries to the Freedom of Information Act Requester Service Center/Privacy Act Office, 400 Army Navy Drive, Arlington, VA 22202-4704.

Individual should provide full name and Social Security Number (SSN).

Record access procedures:

Individuals seeking access to records about themselves contained in this system of records should address written inquires to the Freedom of Information Act Requester Service Center/Privacy Act Office, 400 Army Navy Drive, Arlington, VA 22202-4704.

Individual should provide full name and Social Security Number (SSN).

Contesting record procedures:

The OIG's rules for accessing records, and for contesting contents and appealing initial agency determinations are published in 32 CFR part 312 and may be obtained from the system manager.

Record source categories:

Information is provided primarily by the record subject; however, some data may be obtained from personnel and leave records.

Exemptions claimed for the system:

None.

CIG-18

System name:

Grievance Records (June 5, 2006, 71 FR 32310).

Changes:

* * * * *

Systems location:

Delete entry and replace with “Records are maintained by Department of Defense Office of the Inspector General, Human Capital Advisory Services, Workforce Relations Division, 400 Army Navy Drive, Suite 115, Arlington, VA 22202-4704.”

* * * * *

System manager(s) and address:

Delete entry and replace with “Human Capital Advisory Services, Department of Defense Office of the Inspector General, 400 Army Navy Drive, Arlington, VA 22202-4704.”

* * * * *

CIG 18

System name:

Grievance Records.

System location:

Records are maintained by Department of Defense Office of the Inspector General, Human Capital Advisory Services, Workforce Relations Division, 400 Army Navy Drive, Suite 115, Arlington, VA 22202-4704.

Categories of individuals covered by the system:

Current or former Inspector General, Department of Defense employees who have submitted grievances in accordance with 5 CFR Part 771, DoD Directive 1400.25-M Subchapter 771 and DoD Inspector General Instruction 1400.5.

Categories of records in the system:

The case files contain all documents related to grievances including reports of interviews and hearings, examiner's findings and recommendations, copy of the original and final decision, and related correspondence and exhibits.

Authority for maintenance of the system:

5 U.S.C. 2302, Prohibited personnel practices; 5 U.S.C. 7121, Grievance procedures; 5 CFR part 771; DoD 1400.25-M, Subchapter 771, Administrative Grievance System; DoD Inspector General Instruction 1400.5; and E.O. 9397 (SSN).

Purpose(s):

The information will be used by the Department of Defense Office of the Inspector General to control and process grievances; to investigate the allegations; conduct interviews; and render the final decision.

Routine uses of records maintained in the system, including categories of users and the purposes of such uses:

In addition to those disclosures generally permitted under 5 U.S.C. 552a(b) of the Privacy Act, these records or information contained therein may specifically be disclosed outside the DoD as a routine use pursuant to 5 U.S.C. 552(a)(b)(3) as follows:

To disclose information to any source from which additional information is requested in the course of processing a grievance, to the extent necessary to identify the individual, inform the source of the purpose(s) of the request, and identify the type of information requested.

To disclose in response to a request for discovery or for appearance of a witness, information that is relevant to the subject matter involved in a pending judicial or administrative proceeding.

To provide information to officials of labor organization reorganized under the Civil Service Reform Act when relevant and necessary to their duties, exclusive representation concerning personnel policies, practices, and matter affecting work conditions.

Policies and practices for storing, retrieving, accessing retaining and disposing of records in the system:

Storage:

Records are stored in paper form.

Retrievability:

Records are retrieved by names of the individuals on whom the records are maintained.

Safeguards:

Records are maintained in locked metal file cabinets, to which only DoD OIG authorized personnel have access.

Retention and disposal:

Records are destroyed four years after the case is closed.

System manager(s) and address:

Human Capital Advisory Services, Department of Defense Office of the Inspector General, 400 Army Navy Drive, Arlington, VA 22202-4704.

Notification procedure:

Individuals seeking to determine whether this system of records contains information about themselves should address written inquiries to the Freedom of Information Act Requester Service Center/Privacy Act Office, 400 Army Navy Drive, Arlington, VA 22202-4704.

Written requests for information should include the full name.

Record access procedures:

Individuals seeking access to records about themselves contained in this system of records should address written inquires to the Freedom of Information Act Requester Service Center/Privacy Act Office, 400 Army Navy Drive, Arlington, VA 22202-4704.

Written requests for information should include the full name.

Contesting record procedures:

The OIG's rules for accessing records and for contesting contents and appealing initial agency determinations are published in 32 CFR part 312 and may be obtained from the system manager.

Record source categories:

Information is provided by the individual on whom the record is maintained; by testimony of witnesses; by Agency officials; or from related correspondence from organizations or persons.

Exemptions claimed for the system:

None.

CIG-25

System name:

Alternate Worksite Records (January 8, 2007, 72 FR 728).

Changes:

* * * * *

Systems location:

Delete entry replace with “Primary location: Human Capital Advisory Services (Workforce Relations Division), Department of Defense Office of the Inspector General, 400 Army Navy Drive, Suite 115, Arlington, VA 22202-4704.

Secondary locations:

Defense Criminal Investigative Service Field Offices, Resident Agencies, Posts of Duty and Audit Field Offices

Official mailing addresses are published as an appendix to the OIG's compilation of systems of records notices.”

* * * * *

Categories of records in the systems:

Delete entry and replace with “Records in the systems include participant name; position title; occupation and pay band, performance evaluation rating; official duty station address and telephone numbers; type of telework; date telework agreement received and approved; alternative worksite address and telephone numbers; telework eligibility forms; telework agreement forms; telework home and security checklists; whether government equipment is assigned; telework arrangement checkout checklists; telework centers reimbursement sheets; and regular and recurring telework memorandums; and any other miscellaneous documents supporting telework.”

* * * * *

System manager(s) and address:

Delete entry and replace with “Assistant Director, Human Capital Advisory Services (Workforce Relations), 400 Army Navy Drive, Suite 115, Arlington, VA 22202-4704.”

* * * * *

CIG-25

System name:

Primary location: Human Capital Advisory Service (Workforce Relations Division), Department of Defense Office of the Inspector General, 400 Army Navy Drive, Suite 115, Arlington, VA 22202-4704.

Secondary locations:

Defense Criminal Investigative Service Field Offices, Resident Agencies, and Posts of Duty.

Official mailing addresses are published as an appendix to the OIG's compilation of systems of records notices.

Categories of individuals covered by the system:

Civilian employees who participate in the Telework program operated by OIG.

Categories of records in the system:

Records in the systems include participant name; position title; occupation and pay band, performance evaluation rating; official duty station address and telephone numbers; type of telework; date telework agreement received and approved; alternative worksite address and telephone numbers; telework eligibility forms; telework agreement forms; telework home and security checklists; whether government equipment is assigned; telework arrangement checkout checklists; telework centers reimbursement sheets; and regular and recurring telework memorandums; and any other miscellaneous documents supporting telework.

Authority for maintenance of the system:

Public Law 106-346, Section 359 of October 23, 2000; Under Secretary of Defense (Personnel and Readiness) Memorandum dated October 22, 2001, “Department of Defense Telework Policy and Guide for Civilian Employees,” and DoD Directive 1035.1 Telework Policy for Department of Defense.

Purpose(s):

Records are used by supervisor and program coordinators for purposes of managing, evaluating, and reporting OIG telework program activity.

Portions of the files may be for determining equipment and software needs; for ensuring appropriate technical safeguards are in use at alternative work sites; and for evaluating and mitigating vulnerabilities associated with connecting to OIG computer systems from remote locations and to validate and reimburse participants for costs associated with telephone use.

Routine uses of records maintained in the system, including categories of users and the purpose of such uses:

In addition to those disclosures generally permitted under 5 U.S.C. 552a(b) of the Privacy Act, these records or information contained therein may specifically be disclosed outside the DoD as a routine use pursuant to 5 U.S.C. 552(b)(3) as follows:

To the Department of Labor when an employee is injured while working at the alternative worksite.

The DoD “Blanket Routine Uses” set forth at the beginning of OIG's compilation of systems of records notices apply to this system.

Policies and practices for storing, retrieving, accessing, retaining, and disposing of records in the system:

Storage:

Paper records and electronic storage media.

Retrievability:

Records are retrieved by name.

Safeguards:

Records are maintained in areas accessible only to DoD OIG personnel and is limited to those who require the records in the performance of their official duties. Paper Records are secured in locked cabinets during non-duty hours and access to electronic records is restricted by the use of passwords.

Retention and disposal:

Records are destroyed (shredded) within 1 year after employee's participation in the program ends.

System manager(s) and address:

Assistant Director, Human Capital Advisory Services (Workforce Relations), 400 Army Navy Drive, Suite 115, Arlington, VA 22202-4704.

Notification procedures:

Individuals seeking to determine whether records about themselves is contained in this system of records should address written inquiries to the Freedom of Information Act Requester Service Center/Privacy Act Office, Department of Defense, Office of the Inspector General, 400 Army Navy Dr, Arlington VA 22202-4704.

The request should contain the individual's full name, address, and telephone number. These items are necessary for the retrieval of information. Requests submitted on behalf of other persons must include their written authorization.

Record access procedures:

Individuals seeking access to records about themselves contained in this system of records should address written inquiries to the Freedom of Information Act Requester Service Center/Privacy Act Office, Department of Defense, Office of the Inspector General, 400 Army Navy Dr, Arlington VA 22202-4704.

The request should contain the individual's full name, address, and telephone number. These items are necessary for the retrieval of information. Requests submitted on behalf of other persons must include their written authorization.

Contesting record procedures:

The OIG's rules for accessing records and for contesting contents and appealing initial agency determinations are published in 32 CFR part 312 or may be obtained from the system manager.

Record source categories:

By participants and supervisors.

Exemptions claimed for the system:

None.

[FR Doc. E8-19508 Filed 8-21-08; 8:45 am]

BILLING CODE 5001-06-P